DEPARTMENT OF THE INTERIOR

Fish and Wildlife Service

Final Environmental Impact Statement and Record of Decision for Incidental Take of the Endangered Alabama Beach Mouse

AGENCY: Fish and Wildlife Service, Interior.

ACTION: Notice.

SUMMARY: The Fish and Wildlife Service (Service) announces the availability of a Final Environmental Impact Statement (FEIS), which analyzes the environmental impacts associated with incidental take permits that were previously issued under the Endangered Species Act of 1973 (Act), as amended (16 U.S.C. 1531 et seq.), for take of the Alabama beach mouse (Peromyscus polionotus ammobates). The FEIS analyzes the consequences of the proposed action and alternatives to the proposed action. The incidental take permits, previously issued to Gulf Highlands LLC and Beach Club West, involve the construction, occupancy, use, operation, and maintenance of two residential/recreational condominium development projects on the Fort Morgan Peninsula in Baldwin County, Alabama. For Record of Decision (ROD) availability, see DATES.

DATES: The ROD will be available no sooner than December 29, 2006.

ADDRESSES: Persons wishing to review the FEIS may obtain a copy by writing either to the Service's Southeast Regional Office at Regional Office, 1875 Century Boulevard, Suite 200, Atlanta, Georgia 30345 (Attn: Endangered Species Permits), or to the Alabama Field Office at U.S. Fish and Wildlife Service, 1208-B Main Street, Daphne, Alabama 36526 (Attn: Darren LeBlanc). Documents will be available for public inspection by appointment during normal business hours at both offices.

FOR FURTHER INFORMATION CONTACT: Mr. Aaron Valenta, Regional HCP Coordinator (see ADDRESSES above), telephone: 404/679-4144; or Darren LeBlanc, Alabama Field Office (see ADDRESSES above), telephone: 251/441-5859.

SUPPLEMENTARY INFORMATION: On October 8, 2002, we advertised a notice of intent to prepare and EIS for this project and requested public comment (67 FR 62809). On October 29, 2002, we held a public scoping meeting and invited the public to provide relevant information on the project. The public comment period ended on November 22, 2002. We subsequently reopened the comment period for 15 days between December 18, 2002 and January 2, 2003 (67 FR 77505). On April 28, 2006, we published a notice of availability for the draft EIS with a 90-day comment period on the draft EIS (71 FR 25221). We also held a public hearing on June 26, 2006. For ROD availability, see DATES.

The FEIS analyzes the preferred alternative, as well as a full range of reasonable alternatives and the associated impacts of each. Alternative 5 (Preferred Alternative) concentrates the development on the eastern portion of the site and includes a 909-foot corridor connecting adjacent primary/secondary dunes and escarpment to the Interior. This alternative provides for dedication of 100.8 acres of Permittee-owned lands into conservation status via covenants, conditions, and restrictions attached to the property, and conditions of any incidental take permit that might be issued.

The environmental review of this project is being conducted in accordance with the requirements of the National Environmental Policy Act of 1969 as amended (42 U.S.C. 4321 et seq.) and its implementing regulations (40 CFR parts 1500 through 1508), and with other appropriate Federal laws and regulations, policies, and procedures of the Service for compliance with those regulations.

Dated: November 3, 2006.
Cynthia K. Dohner,
Acting Regional Director.

[FR Doc. E6-20230 Filed 11-28-06; 8:45 am]

BILLING CODE 4310-55-P